COMMISSION ON CIVIL RIGHTS

Notice of Public Meetings of the West Virginia Advisory Committee

AGENCY: U.S. Commission on Civil Rights.

ACTION: Announcement of meeting.

SUMMARY: Notice is hereby given, pursuant to the provisions of the rules and regulations of the U.S. Commission on Civil Rights (Commission) and the Federal Advisory Committee Act that the West Virginia Advisory Committee (Committee) will hold a two-hour meeting via web conference on Thursday, August 26, 2021 at 11:00 a.m. Eastern Time. The purpose of the meeting is to hear from national experts who will highlight the themes and questions related to the civil rights impacts of disparate school discipline policies and practices on students of color, students with disabilities and LGBTQIA+ students in West Virginia.

DATES: Thursday, August 26, 2021, from 11:00 a.m. to 1:00 p.m. (ET).

Online Registration: https://bit.ly/3yqCAZx.

• Password if prompted: USCCR, or follow instructions.

• You will be asked to register, including your email address, so that you will receive future information about the WV Committee's activities. If you prefer that your real name not show on screen, you may enter an alias when joining the meeting, and your actual name does not appear in the WebEx participant list.

Join by Phone: (audio only): 800-360-9505 USA Toll Free; Access code: 199 382 0354.

FOR FURTHER INFORMATION CONTACT: Ivy Davis, DFO, at ero@usccr.gov, or 202-539-8468.

SUPPLEMENTARY INFORMATION: The meeting is available to the public through the web link above. If joining via phone-only, callers can expect to incur charges for calls they initiate over wireless lines, and the Commission will not refund any incurred charges. Individuals who are deaf, deafblind and hard of hearing. Individuals may also follow the proceedings by first calling the Federal Relay Service at 1-800-877-8339 and providing the Service with conference details found through registering at the web link above. To request additional accommodations, please email Atten: Ivy Davis, DFO, at: ero@usccr.gov, at least 7 days prior to the meeting.

At the end of the panel presentation, members of the public are entitled to make brief comments—not to exceed five minutes—during the Public Comment section of the agenda. Members of the public may also submit written comments; the comments must be received in the Regional Programs Unit within 30 days following the meeting. Written comments may be emailed to Atten: Ivy Davis at ero@usccr.gov. Persons who desire additional information may contact the Regional Programs Unit via email at: Atten: Ivy Davis, idavis@usccr.gov ; by phone: 202-539-8468. Records and documents discussed during the meeting will be available for public viewing as they become available at www.facadatabase.gov. Persons interested in the work of the WV Advisory Committee may to go to the Commission's website, www.usccr.gov, or contact the DFO at the above email address or phone number.

Agenda

I. Welcome & Roll Call

II. Panel Discussion

III Committee Members Q & A

IV. Public Comment

V. Adjournment

Dated: August 5, 2021.
David Mussatt,
Supervisory Chief, Regional Programs Unit.

[FR Doc. 2021-17009 Filed 8-10-21; 8:45 am]

BILLING CODE P